DEPARTMENT OF HOMELAND SECURITY

U.S. Customs and Border Protection

[1651-0002]

General Declaration (CBP Form 7507)

AGENCY: U.S. Customs and Border Protection (CBP), Department of Homeland Security.

ACTION: 30-Day notice and request for comments; revision of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than August 30, 2023) to be assured of consideration.

ADDRESSES: Written comments and/or suggestions regarding the item(s) contained in this notice should be sent within 30 days of publication of this notice to www.reginfo.gov/public/do/PRAMain. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (88 FR 13455) on March 03, 2023, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: General Declaration.

OMB Number: 1651-0002.

Form Number: CBP Form 7507.

Current Actions: CBP proposes to reduce the burden for this information collection by streamlining the Form 7507 and removing certain data elements.

Type of Review: Revision.

Affected Public: Businesses.

Abstract: CBP Form 7507, General Declaration, must be filed for all aircraft required to enter or depart under the provisions of 19 CFR 122.41 or 122.61. This form is used to document entrance and clearance for arriving and departing aircraft at the required inspection facilities and inspections by appropriate regulatory agency staffs. Flight identifying information, including the aircraft registration number, which is not collected elsewhere by CBP, and a declaration attesting to the accuracy, completeness and truthfulness of all other documents that make up the manifest shall be submitted on the CBP Form 7507 for aircraft entering or departing the United States, with certain exceptions.

New Change:

To reduce paperwork and reduce duplication of information, the CBP Form 7507 is being streamlined, and will no longer require respondents to provide passenger and crew information, a declaration of health for the persons on board, and details about disinfecting and sanitizing treatments during the flight. The General Declaration (CBP Form 7507) will now only contain:

1. Flight identifying information.

2. The aircraft registration number (if not otherwise collected or received by CBP).

3. A declaration attesting to the accuracy, completeness, and truthfulness of all other documents that make up the manifest.

CBP Form 7507 is authorized by 19 U.S.C. 1431, 1433, and 1644a; and provided for by 19 CFR 122.43, 122.52, 122.54, 122.73, and 122.144. This form is accessible at https://www.cbp.gov/newsroom/publications/forms.

Type of Information Collection: CBP Form 7507.

Estimated Number of Respondents: 500.

Estimated Number of Annual Responses per Respondent: 2,644.

Estimated Number of Total Annual Responses: 1,322,000.

Estimated Time per Response: 2 minutes.

Estimated Total Annual Burden Hours: 44,023.

Dated: July 26, 2023.
Robert F. Altneu,
Director, Regulations and Disclosure Law Division, Regulations and Rulings, Office of Trade, U.S. Customs and Border Protection.

[FR Doc. 2023-16154 Filed 7-28-23; 8:45 am]

BILLING CODE P